DEPARTMENT OF COMMERCE

International Trade Administration

(A-469-814)

Chlorinated Isocyanurates from Spain: Final Results of Antidumping Duty Administrative Review

AGENCY: Import Administration, International Trade Administration, Department of Commerce.

SUMMARY: The Department of Commerce (Department) published its preliminary results of the administrative review of the antidumping duty order on chlorinated isocyanurates (chlorinated isos) from Spain on July 10, 2008. See Chlorinated Isocyanurates from Spain: Preliminary Results of Antidumping Duty Administrative Review, 73 FR 39650 (July 10, 2008) (Preliminary Results). The period of review (POR) is June 1, 2006 through May 31, 2007. We invited interested parties to comment on our Preliminary Results. Based on our analysis of the comments received, we have made changes to our calculations. The final dumping margin for this review is listed in the “Final Results of Review” section below.

EFFECTIVE DATE: December 30, 2008.

FOR FURTHER INFORMATION CONTACT: Scott Lindsay, AD/CVD Operations, Office 6, Import Administration, International Trade Administration, U.S. Department of Commerce, 14th Street and Constitution Avenue, NW, Washington, DC 20230; telephone (202) 482-0780.

SUPPLEMENTARY INFORMATION: On June 24, 2005, the Department published in the Federal Register an antidumping duty order on chlorinated isos from Spain. See Chlorinated Isocyanurates from Spain: Notice of Antidumping Duty Order, 70 FR 36562 (June 24, 2005) (Chlorinated Isos Order). On July 26, 2007, the Department published in the Federal Register a notice of the initiation of the antidumping duty administrative review of chlorinated isos from Spain for the period June 1, 2006 through May 31, 2007. See Initiation of Antidumping and Countervailing Duty Administrative Reviews and Request for Revocation in Part, 72 FR 41057 (July 26, 2007).

The Department published the preliminary results of this review on July 10, 2008. See Preliminary Results. We invited parties to comment on our preliminary results of review. See Preliminary Results. The respondent, Aragonesas Industrias y Energía S.A. (Aragonesas) and the petitioners, Clearon Corporation and Occidental Chemical Corporation (collectively, the petitioners), submitted case briefs on August 11, 2008. Aragonesas and the petitioners submitted rebuttal briefs on August 18, 2008. On September 23, 2007, the Department held a public hearing concerning the issues raised by the parties in their briefs.

On November 10, 2008, the Department extended the time limits for the final results of administrative review until December 10, 2008. See Chlorinated Isocyanurates from Spain: Extension of Time Limit for Final Results of Antidumping Duty Administrative Review, 73 FR 66594 (November 10, 2008). On December 16, 2008, the Department extended the time limits for the final results of this administrative review until December 18, 2008. See Chlorinated Isocyanurates from Spain: Extension of Time Limit for Final Results of Antidumping Duty Administrative Review, 73 FR 76335 (December 16, 2008).

Scope of Antidumping Duty Order

The products covered by the order are chlorinated isocyanurates. Chlorinated isocyanurates are derivatives of cyanuric acid, described as chlorinated s-triazine triones. There are three primary chemical compositions of chlorinated isocyanurates: (1) trichloroisocyanuric acid (Cl3(NCO)3); (2) sodium dichloroisocyanurate (dihydrate) (NaCl2(NCO)3 2H2O); and (3) sodium dichloroisocyanurate (anhydrous) (NaCl2(NCO)3). Chlorinated isocyanurates are available in powder, granular, and tableted forms. The order covers all chlorinated isocyanurates.

Chlorinated isocyanurates are currently classifiable under subheadings 2933.69.6015, 2933.69.6021, and 2933.69.6050 of the Harmonized Tariff Schedule of the United States (HTSUS). The tariff classification 2933.69.6015 covers sodium dichloroisocyanurates (anhydrous and dihydrate forms) and trichloroisocyanuric acid. The tariff classifications 2933.69.6021 and 2933.69.6050 represent basket categories that include chlorinated isoscyanurates and other compounds including an unfused triazine ring. Although the HTSUS subheadings are provided for convenience and customs purposes, the written description of the scope of the order is dispositive.

Analysis of Comments Received

All issues raised in the case and rebuttal briefs submitted by the parties in these reviews are addressed in the memorandum from Stephen J. Claeys, Deputy Assistant Secretary for Import Administration, to David M. Spooner, Assistant Secretary for Import Administration, Antidumping Duty Administrative Review of Chlorinated Isocyanurates from Spain: Issues and Decision Memorandum for the Final Results (Issues and Decision Memorandum), dated concurrently with, and hereby adopted by, this notice. A list of the issues which parties raised and to which we responded in the Issues and Decision Memorandum is attached to this notice as an appendix. The Issues and Decision Memorandum is a public document which is on file in the Central Records Unit in room 1114 in the main Department building, and is accessible on the Web at http://www.ia.ita.doc.gov/frn. The paper copy and electronic version of the memorandum are identical in content.

Changes Since the Preliminary Results

Based on our analysis of comments received, we have made changes in the margin calculation for Aragonesas. For a list of these changes, see Memorandum to the File, from Scott Lindsay, Case Analyst, Antidumping Duty Review of Chlorinated Isocyanurates from Spain: Calculation Memorandum for the Final Results (December 18, 2008) at the section titled “Changes from the Preliminary Results.”

Final Results of Review

We determine that the following percentage margin exists for the period June 1, 2006 through May 31, 2007:

Manufacturer/Exporter | Weighted-Average Margin (percentage)
Aragonesas Industrias y Energía S.A. | 4.07

Assessment

The Department shall determine, and U.S. Customs and Border Protection (CBP) shall assess, antidumping duties on all appropriate entries, pursuant to section 771(a)(1)(B) of the Tariff Act of 1930 (the Act), and 19 CFR 351.212(b). We will instruct CBP to assess antidumping duties on all appropriate entries covered by this review if the importer-specific assessment rate is above de minimis (i.e., at or above 0.50 percent). Pursuant to 19 CFR 351.106(c)(2), we will instruct CBP to liquidate without regard to antidumping duties any entries for which the assessment rate is de minimis (i.e., less than 0.50 percent). The Department intends to issue assessment instructions to CBP 15 days after the date of publication of these final results of review.

The Department clarified its “automatic assessment” regulation on May 6, 2003. See Antidumping and Countervailing Duty Proceedings: Assessment of Antidumping Duties, 68 FR 23954 (May 6, 2003). This clarification will apply to entries of subject merchandise during the POR produced by any of the companies for which we are rescinding this review, and for which each no-shipment respondent did not know its merchandise would be exported by another company to the United States. In such instances, we will instruct CBP to liquidate unreviewed entries at the “All Others” rate if there is no rate for the intermediate company(ies) involved in the transaction. The “All Others” rate established in the original less than fair value (LTFV) investigation is 24.83 percent. See Chlorinated Isos Order.

Cash Deposit Requirements

The following cash deposit requirements will be effective upon publication of the final results of this administrative review for all shipments of the subject merchandise entered, or withdrawn from warehouse, for consumption on or after the publication date, consistent with section 751(a)(2)(C) of the Act: (1) the cash deposit rate for the reviewed company, Aragonesas, will be the rate shown above; (2) if the exporter is not a firm covered in this review, but was covered in a previous review or the original LTFV investigation, the cash deposit rate will continue to be the company-specific rate published for the most recent period; (3) if the exporter is not a firm covered in this review, a prior review, or the original LTFV investigation, but the manufacturer is, the cash deposit rate will be the rate established for the most recent period for the manufacturer of the merchandise; and (4) if neither the exporter nor the manufacturer is a firm covered in this or any previous review conducted by the Department, the cash deposit rate will continue to be the “All Others” rate established in the original LTFV investigation, which results in a rate of 24.83 percent. See Chlorinated Isos Order. These deposit requirements shall remain in effect until further notice.

Notification to Importers

This notice serves as a final reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing these final results of review in accordance with sections 751(a)(1) and 777(i)(1) of the Act.

Dated: December 18, 2008.
David M. Spooner,
Assistant Secretary for Import Administration.

Appendix

GENERAL ISSUES:

Issue 1: Whether the Department Should Grant a Level of Trade Adjustment

Issue 2: Whether the Department Should Refrain From Zeroing Negative Margins

Issue 3: Whether the Department Should Apply the Major Input Rule for Valuing Caustic Soda and Chlorine Inputs

Issue 4: Whether the Department Should Adjust Aragonesas's General and Administrative Expenses

Issue 5: Whether the Department Should Adjust Aragonesas's Comparison Market Movement Expense

[FR Doc. E8-30995 Filed 12-29-08; 8:45 am]

BILLING CODE 3510-DS-S